DEPARTMENT OF ENERGY

Federal Energy Regulatory Commission

[Project No. 308-005—Oregon]

PacifiCorp Energy; Notice of Corrected Process Plan and Schedule

On August 4, 2011, the Federal Energy Regulatory Commission (Commission) issued the Scoping Document 2 for relicensing of PacifiCorp Energy's 1.1-megawatt Wallowa Falls Hydroelectric Project (FERC No. 308). Appendix B of the Scoping Document 2 provides a process plan and schedule for the Integrated Licensing Process. The process plan and schedule incorrectly identifies January 13, 2013, as the due date for filing the initial study report, and January 13, 2014, as the due date for filing the updated study report.

The correct due date is January 3, 2013, for the initial study report, and January 3, 2014, for the updated study report. There are no other modifications to the previously issued schedule.

Dated: November 23, 2012.
Kimberly D. Bose,
Secretary.

[FR Doc. 2012-28868 Filed 11-28-12; 8:45 am]

BILLING CODE 6717-01-P